DEPARTMENT OF HEALTH AND HUMAN SERVICES

Centers for Disease Control and Prevention

Availability of Government-Owned Inventions for Licensing

AGENCY: Centers for Disease Control and Prevention (CDC), Department of Health and Human Services.

ACTION: Notice.

SUMMARY: The inventions named in this notice are owned by agencies of the United States Government. In accordance with 35 U.S.C. 209(e) and to achieve expeditious commercialization of results of federally funded research and development, the inventions are available for licensing in the United States (U.S.). Foreign patent applications are filed on selected inventions to extend market coverage for U.S. companies and may also be available for licensing.

ADDRESSES: Licensing information and copies of the U.S. patent applications listed below may be obtained by writing to Thomas E. O'Toole, M.P.H., Deputy Director, Technology Transfer Office, Centers for Disease Control and Prevention (CDC), Mailstop K-79, 1600 Clifton Road, Atlanta, GA 30333, telephone (770) 488-8611; facsimile (770) 488-8615; or e-mail tto@cdc.gov. A signed Confidential Disclosure Agreement will be required to receive copies of unpublished patent applications.

Automated Microscopic Image Acquisition, Compositing, and Display (CDC Ref. I-019-00/0), U.S. Patent SN: 10/001,268.

Single Vial Reconstitution System for Lyophilized Vaccines and Other Pharmaceuticals (CDC Ref. I-005-02/0), U.S. Patent SN: 60/391,862.

Molecular Identification of Aspergillus Species (CDC Ref. I-006-02/0), U.S. Patent SN: 60/381,463.

Integration of Gene Expression Data and Non-Gene Data (CDC Ref. I-024-02/0), U.S. Patent SN: 60/429,920.

Measurement of Total Reactive Isocyanate Groups in Samples Using Bifunctional Nucleophiles Such as 1,8-Diaminonapthalene (DAN) (CDC Ref. I-034-02/0), U.S. Patent SN: 60/429,963.

Dated: March 31, 2003.
James D. Seligman,
Associate Director for Program Services, Centers for Disease Control and Prevention (CDC).

[FR Doc. 03-8321 Filed 4-4-03; 8:45 am]

BILLING CODE 4163-18-P